DEPARTMENT OF COMMERCE

National Oceanic and Atmospheric Administration

Hydrographic Services Review Panel Meeting

AGENCY: National Ocean Service, National Oceanic and Atmospheric Administration (NOAA), Department of Commerce

ACTION: Notice of public meeting (via conference call).

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice. The purpose of the conference call is to allow Panel members to deliberate and vote on recommendations related to topics presented during a public meeting in Miami, Florida, on March 7, 2008, and to allow members to deliberate and vote on drafted recommendations on the “Integrated Ocean Observing System Operational Wave Observation Plan.” Written public comments should be submitted to Captain Steven Barnum, Designated Federal Officer (DFO), by April 15, 2008.

Date and Time: The conference call will convene at 2 p.m. Eastern Time, April 18, 2008, and end at or about 3:30 p.m.

FOR FURTHER INFORMATION CONTACT: Captain Steven Barnum, NOAA, Designated Federal Officer (DFO), Office of Coast Survey, National Ocean Service, NOAA (N/CS), 1315 East West Highway, Silver Spring, Maryland 20910; Telephone: 301-713-2770, Fax: 301-713-4019; e-mail: Steven.Barnum@noaa.gov or Hydroservices.panel@noaa.gov; and for more information visit the NOAA HSRP Web site at http://nauticalcharts.noaa.gov/ocs/hsrp/hsrp.htm.

SUPPLEMENTARY INFORMATION: This conference call is available to the public through the following, toll free call-in number: (800) 779-9311 participant passcode: HSRP. Interested members of the public may call this number and listen to the meeting. Persons with hearing impairments may follow the proceedings by calling the Federal Relay Service [TTY (800) 877-8339, Voice (866) 377-8642 or Voice Carry-Over (877) 877-6280] and provide the Service with the conference call number and participant passcode. Be sure to notify the operator that it is a “Conference Call” before you provide call number and participant passcode.

Matters to be Considered: Panel deliberations and a vote is required for recommendations related to “The Integrated Ocean Observing System (IOOS) Operational Wave Observation Plan;” NOAA's hydrographic services' budget concerns; and other relative, programmatic issues. Briefing materials and an agenda will be posted before the conference call; please visit http://nauticalcharts.noaa.gov/ocs/hsrp/hsrp.htm.

Dated: March 26, 2008.
Captain Steven Barnum,
Director, Office of Coast Survey, National Oceanic and Atmospheric Administration.

[FR Doc. E8-6721 Filed 3-31-08; 8:45 am]

BILLING CODE 3510-JE-P